DEPARTMENT OF HOUSING AND URBAN DEVELOPMENT

[Docket No. FR 4649-N-01]

Notice of Proposed Information Collection: Comment Request, State CDBG Program

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: April 30, 2001.

ADDRESSES: Interested persons are invited to submit comments regarding this proposal. Comments should refer to the proposal by name and/or OMB Control Number and should be sent to: Shelia Jones, Reports Liaison Officer, Department of Housing and Urban Development, 451 7th Street, SW., Room 7232, Washington, DC 20410.

FOR FURTHER INFORMATION CONTACT: Lindy Heaster at (202) 708-1322, Extension 4416 (this is not a toll free number) for copies of the proposed forms and other available documents.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology; e.g., permitting electronic submission of responses.

This Notice also lists the following information:

Title of Proposal: State CDBG Program.

OMB Control Number, if applicable: 2506-0085.

Description of the need for the information and proposed use: The information collected from states participating in the state-administered CDBG program is used by the Department to determine each state's compliance with statutory and regulatory requirements and to provide supporting information for review and audit.

Agency form numbers, if applicable: The Housing and Community Development Act of 1974, as amended, requires states that administer the CDBG Program to submit: (1) a Final Statement that contains the community development objectives, a method of distribution, and the certification by the Governor or a duly authorized state official (Section 104(a)(1)); (2) an annual performance and evaluation report (PER) (Section 104(e)); and such records as may be necessary to facilitate review and audit by HUD of the state's administration of CDBG funds (Section 104(e)(2)).

Members of affected public: State Governments participating in the State-administered CDBG Program.

Estimation of the total number of hours needed to prepare the information collection including number of respondents, frequency of responses, and hours of responses: The estimated number of respondents is 50. The proposed frequency of the response to the collection of information is annual. Annual recordkeeping (including electronic payments) is estimated at 107,400 hours annually for approximately 50 grant recipients.

Status of the proposed information collection: Reinstatement, with minor change, of a previously approved collection for which approval is near expiration and request for OMB renewal for three years. The current OMB approval expired in April 1997.

This report does not include hours spent on Consolidated Plan preparation and reporting. Those hours are reported with 2506-0117.

Authority: The Paperwork Reduction Act of 1995, 44 U.S.C. Chapter 35, as amended.

Dated: February 15, 2001.
Donna M. Abbenante,
Acting General Deputy Assistant Secretary.

[FR Doc. 01-4782 Filed 2-26-01; 8:45 am]

BILLING CODE 4210-29-M